DEPARTMENT OF HEALTH AND HUMAN SERVICES

Centers for Disease Control and Prevention

Advisory Committee on Breast Cancer in Young Women, Centers for Disease Control and Prevention: Notice of Charter Renewal

This gives notice under the Federal Advisory Committee Act (Pub. L. 92-463) of October 6, 1972, that the Advisory Committee on Breast Cancer in Young Women, Centers for Disease Control and Prevention (CDC), Department of Health and Human Services (HHS), has been renewed for a 2-year period through June 17, 2014.

For information, contact Temeika L. Fairley, Ph.D., Designated Federal Officer, Advisory Committee on Breast Cancer in Young Women, HHS, CDC, 4770 Buford Highway, NE., Mailstop K52, Atlanta, Georgia 30341, telephone 770/488-4518, fax 770/488-4760.

The Director, Management Analysis and Services Office, has been delegated the authority to sign Federal Register notices pertaining to announcements of meetings and other committee management activities, for both the Centers for Disease Control and Prevention and the Agency for Toxic Substances and Disease Registry.

Dated: July 6, 2012.
Elaine L. Baker,
Director, Management Analysis and Services Office, Centers for Disease Control and Prevention.

[FR Doc. 2012-17043 Filed 7-11-12; 8:45 am]

BILLING CODE 4163-18-P